DEPARTMENT OF AGRICULTURE

Rural Utilities Service

7 CFR Part 1755

RIN 0572-AB41

Telecommunications System Construction Contract and Specifications

AGENCY: Rural Utilities Service, USDA.

ACTION: Proposed rule.

SUMMARY: The Rural Utilities Service (RUS) proposes to amend its regulations on Telecommunications Standards and Specifications for Materials, Equipment and Construction, by revising RUS Contract Form 515, Telephone System Construction Contract, and revising and renumbering RUS Bulletin 345-150, Specifications and Drawings for Construction of Direct Buried Plant (Form 515a); RUS Bulletin 345-151, Specifications and Drawings for Conduit and Manhole Construction (Form 515c); RUS Bulletin 345-152, Specifications and Drawings for Underground Cable Installation (Form 515d); RUS Bulletin 345-153, Specifications and Drawings for Construction of Pole Lines, Aerial Cables and Wires (Form 515f); and RUS Bulletin 345-154, Specifications and Drawings for Service Entrance and Station Protector Installation (Form 515g). The revised contract and specifications will incorporate the latest technology, remove redundant or outdated requirements, and simplify the specification format.

DATES: Written comments must be received by RUS or be postmarked no later than December 26, 2000.

ADDRESSES: Comments should be mailed to Gerald F. Nugent, Jr., Director, Telecommunications Standards Division, Rural Utilities Service, U.S. Department of Agriculture, 1400 Independence Ave., SW., Stop 1598, Washington, DC 2050-1598. RUS requests an original and three copies of all comments (7 CFR part 1700.4). All comments received will be made available for public inspection at room 2870, South Building, U.S. Department of Agriculture, 1400 Independence Ave., SW., Stop 1598, Washington, DC 20250-1598, between 8 a.m. and 4 p.m. (7 CFR 1.27(b)).

FOR FURTHER INFORMATION CONTACT: Charlie I. Harper, Jr., Chief, Outside Plant Branch, Telecommunications Standards Division, Rural Utilities Service, U.S. Department of Agriculture, 1400 Independence Ave., SW., Stop 1598, Washington, DC 20250-1598, telephone (202) 720-0667.

SUPPLEMENTARY INFORMATION:

Executive Order 12866

This proposed rule has been determined to be not significant for purposes of Executive Order 12866 and, therefore, has not been reviewed by the Office of Management and Budget (OMB).

Executive Order 12988

This proposed rule has been reviewed under Executive Order 12988, Civil Justice Reform. RUS has determined that this proposed rule meets the applicable standards provided in Section 3 of the Executive Order. In addition, all State and local laws and regulations that are in conflict with this rule will be preempted, no retroactive effort will be given to this rule, and, in accordance with section 212(e) of the Department of Agriculture Reorganization Act of 1994 (7 U.S.C. 6912(e)), administrative appeal procedures, if any, must be exhausted before an action against the Department or its agencies may be initiated.

Regulatory Flexibility Act Certification

RUS has determined that this proposed rule will not have a significant economic impact on a substantial number of small entities, as defined by the Regulatory Flexibility Act (5 U.S.C. 601 et seq.). The RUS telecommunications program provides loans to borrowers at interest rates and on terms that are more favorable than those generally available from the private sector. RUS borrowers, as result of obtaining federal financing, receive economic benefits that exceed any direct economic costs associated with complying with RUS regulations and requirements.

Information Collection and Recordkeeping Requirements

The form and bulletins which are Incorporated by Reference in this rule were previously approved under OMB control number 0572-0059. OMB approval of the information collection requirements under the Paperwork Reduction Act of 1995 (44 U.S.C. Chapter 35, as amended) of OMB control number 0572-0059 have expired. RUS will publish a separate Notice in the Federal Register regarding the collection of information previously covered by OMB control number 0572-0059 and provide an opportunity for public comment. RUS will publish a separate Notice in the Federal Register upon receipt of OMB approval of the collection of information. No person is required to respond to the collection of information required by this rule until such Notice is published.

National Environmental Policy Act Certification

The Administrator of RUS has determined that this proposed rule will not significantly affect the quality of the human environment as defined by the National Environmental Policy Act of 1969 (42 U.S.C. 4321 et seq.) Therefore, this action does not require an environmental impact statement or assessment.

Catalog of Federal Domestic Assistance

The program described by this proposed rule is listed in the Catalog of Federal Domestic Assistance program under No. 10.851, Rural Telephone Loans and Loan Guarantees, and No. 10.852, Rural Telephone Bank Loans. This catalog is available on a subscription basis from the Superintendent of Documents, the U.S. Government Printing Office, Washington, DC 20402-9325. Telephone: (202) 512-1800.

Executive Order 12372

This proposed rule is excluded from the scope of Executive Order 12372, Intergovernmental Consultation, which may require consultation with State and local officials. A final rule related notice entitled “Department Programs and Activities Excluded from Executive Order 12372,” (50 FR 47034) exempts RUS and RTB loans and loan guarantees, and RTB bank loans, from coverage under this Order.

Unfunded Mandates

This proposed rule contains no Federal mandates (under the regulatory provision of Title II of the Unfunded Mandates Reform Act) for State, local, and tribal governments or the private sector. Thus this proposed rule is not subject to the requirements of sections 202 and 205 of the Unfunded Mandates Reform Act.

Background

An advance notice of proposed rulemaking (ANPR) was published September 16, 1998, in the Federal Register at 63 FR 49504. This ANPR summarized that RUS proposed to amend 7 CFR part 1755, Telecommunications Standards and Specifications for Materials, Equipment and Construction, by revising RUS Contract Form 515, Telecommunications System Construction Contract (Labor and Materials), to incorporate the latest technology, remove redundant and outdated requirements, and simplify the specification format. The comment period closed December 15, 1998, and no comments were received.

RUS issues contracts, standards and specification for construction of telecommunications facilities financed with RUS loan funds. RUS is proposing to revise RUS Contract Form 515, Telephone System Construction Contract, and revise and renumber the associated supplemental specifications from RUS Bulletin 345-150 (RUS Form 515a) to RUS Bulletin 1753F-150 (RUS Form 515a), Specifications and Drawings for Construction of Direct Buried Plant; RUS Bulletins 345-151 (RUS Form 515c) and 345-152 (RUS Form 515d) combined into RUS Bulletin 1753F-151 (RUS Form 515b), Specifications and Drawings for Construction of Underground Plant; RUS Bulletin 345-153 (RUS Form 515f) to RUS Bulletin 1753F-152 (RUS Form 515c) Specifications and Drawings for Construction of Aerial Plant; and, RUS Bulletin 345-154 (RUS Form 515g) to RUS Bulletin 1753F-153 (RUS Form 515d), Specifications and Drawings for Service Installations at Customer Access Locations. The renumbering efforts is to conform to the existing numbering system maintained by the agency.

The current RUS Contract Form 515, Telephone System Construction Contract, and the associated supplemental specifications are used by borrowers to secure the services of a contractor for the construction of telecommunications facilities. Because of advancements made in construction installation methods and materials, the present form of the contract and the associated specifications have become outdated. To allow borrowers and contractors to take advantage of these improved construction installation methods and materials, the current contract form and associated specification will be revised.

The documents contain revisions and changes including the ability of the borrower to optionally include the borrower and engineer as co-insured under the contractor's insurance policy.

List of Subjects in 7 CFR Part 1755

Incorporation by reference, Loan programs—communications, Reporting and recordkeeping requirements, Rural areas, Telephone.

For reasons set out in the preamble, RUS proposes to amend chapter XVII of title 7 of the Code of Federal Regulations as follows:

PART 1755—TELECOMMUNICATIONS STANDARDS AND SPECIFICATIONS FOR MATERIALS, EQUIPMENT AND CONSTRUCTION

1. The authority citation for part 1755 continues to read as follows:

Authority: 7 U.S.C. 901 et seq., 1921 et seq., 6941 et seq.

2. Section 1755.30 is amended by revising paragraph (c)(34) to read as follows:

§ 1755.30 List of telecommunications standard contract forms.

* * * * *

(c) List of telecommunications standard contract forms.

(34) RUS Form 515, issued [Effective date of final rule], Telecommunications System Construction contract (Labor and Materials).

* * * * *

3. Section 1755.97 is amended by revising the introductory text and removing the entries RUS Bulletins 345-150, 345-151, 345-152, 345-153, and 345-154 from the table and adding, in their place, new entries 1753F-150, 1753F-151, 1753F-152, and 1753F-153 to read as follows:

§ 1755.97 Incorporation by reference of telecommunications standards and specifications.

The following telecommunications bulletins are pending approval for incorporation by reference by the Director of the Office of the Federal Register in accordance with 5 U.S.C. 552(a) and 1 CFR part 51. These bulletins contain construction standards and specifications for materials and equipment and may be obtained from the Rural Utilities Service, Program Development and Regulatory Analysis, 1400 Independence Ave., Stop 1522, Room 4028 South Building, Washington, DC 20250-1522. The bulletins are available for inspection at the Office of the Federal Register, 800 North Capitol Street, NW., Suite 700, Washington, DC. These materials will be incorporated as they exist on the date of the approval and a notice of any change in these materials will be published in the Federal Register. The terms “RUS form”, “RUS standard form”, “RUS specification”, and “RUS bulletin” have the same meaning as the terms “REA form”, “REA standards form”, “REA specification”, and “REA bulletin”, respectively, unless otherwise indicated.

RUS Bulletin No. | Specification No. | Date last issued | Title of standard or specification
* * * * * * *
1753F-150 | Form 515a | [Effective date of final rule] | Specifications and Drawings for Construction of Direct Buried Plant.
1753F-151 | Form 515b | [Effective date of final rule] | Specifications and Drawings for Construction of Underground Plant.
1753F-152 | Form 515c | [Effective date of final rule] | Specifications and Drawings for Construction of Aerial Plant.
1753F-153 | Form 515d | [Effective date of final rule] | Specifications and Drawings for Service Installations at Customer Access Locations.

Date: August 17, 2000.
Jill Long Thompson,
Under Secretary, Rural Development.

[FR Doc. 00-21773 Filed 8-24-00; 8:45 am]

BILLING CODE 3410-15-P